DEPARTMENT OF THE INTERIOR

Bureau of Land Management

[LLCAN01000.L10200000.XZ0000]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Thursday and Friday, April 28 and 29, 2011, Lake and Mendocino counties, California. On April 28, the RAC convenes at 8:30 a.m. at the BLM Ukiah Field Office, 2550 North State Street, Ukiah, and departs immediately for a field tour to the Indian Valley Management Area in Lake County. Members of the public are welcome. They must provide their own transportation, beverages and food. On April 29, the council convenes at 8 a.m. in the conference room of the BLM Ukiah Field office. Time for public comment has been reserved for 11 a.m.

FOR FURTHER INFORMATION CONTACT: Nancy Haug, BLM Northern California District manager, (530) 224-2160; or BLM Public Affairs Officer Joseph J. Fontana, (530) 252-5332.

SUPPLEMENTARY INFORMATION: The 12-member council advises the Secretary of the Interior, through the BLM, on a variety of planning and management issues associated with public land management in Northwest California. At this meeting agenda topics include discussion of alternative energy projects, management of the Sacramento River Bend area in Shasta County, off-highway vehicle management grants, and land tenure topics in the BLM Arcata, Redding and Ukiah field offices. All meetings are open to the public. Members of the public may present written comments to the council. Each formal council meeting will have time allocated for public comments. Depending on the number of persons wishing to speak, and the time available, the time for individual comments may be limited. Members of the public are welcome on field tours, but they must provide their own transportation and food. Individuals who plan to attend and need special assistance, such as sign language interpretation and other reasonable accommodations, should contact the BLM as provided above.

Dated: March 21, 2011.
Joseph J. Fontana,
Public Affairs Officer.

[FR Doc. 2011-7865 Filed 4-1-11; 8:45 am]

BILLING CODE 4310-40-P